ENVIRONMENTAL PROTECTION AGENCY

[FRL-7384-8]

Notice of Availability of Draft National Pollution Discharge Elimination Systems (NPDES) General Permit for Storm Water Discharges From Small Municipal Separate Storm Sewer Systems in the States of Massachusetts and New Hampshire and Indian Lands in the States of Connecticut, Massachusetts, and Rhode Island and Federal Facilities in Vermont

AGENCY: Environmental Protection Agency (EPA).

ACTION: Notice of availability of the draft NPDES general permits MAR040000; NHR040000; MAR04000I; CTR04000I; RIR04000I and VTR04000F.

SUMMARY: The Director of the Office of Ecosystem Protection, Environmental Protection Agency-Region 1, is today providing notice of the availability of the Draft National Pollutant Discharge Elimination System (NPDES) general permit for storm water discharges from small municipal separate storm sewer systems (MS4s) to certain waters of the States of Massachusetts, New Hampshire and Vermont, and to certain waters on Indian Country lands in the States of Connecticut, Massachusetts, and Rhode Island. This draft NPDES general permit establishes Notice of Intent (NOI) requirements, standards, prohibitions, and management practices for discharges of storm water from municipal separate storm sewer systems.

Owners and/or operators of small MS4s that discharge storm water will be required to submit an NOI to EPA-Region 1 to be covered by the general permit and will receive a written notification from EPA-Region 1 of permit coverage and authorization to discharge under the general permit. This general permit does not cover new sources as defined at 40 CFR 122.2.

DATES: The public comment period is from September 27, 2002, to November 1, 2002. Interested parties may submit comments on the draft general permit as part of the administrative record to EPA-Region 1 at the address above, no later than November 8, 2002. The general permit shall be effective on the date specified in the final general permit published in the Federal Register and will expire five years from the publication date of final permit.

Comment must be received or postmarked by midnight November 8, 2002. No facsimiles (faxes) will be accepted.

ADDRESSES: The draft permit is based on an administrative record available for public review at EPA-Region 1, Office of Ecosystem Protection (CMU), 1 Congress Street, Suite 1100, Boston, Massachusetts 02114-2023. Copies of information in the record are available upon request. A reasonable fee may be charged for copying.

Public Meeting Information: EPA—Region 1 will hold four public meetings to provide information about the general permit and its requirements. The public meetings will include a presentation on the draft permit and a question and answer session. Written, but not oral, comments for the official permit record will be accepted at the public meetings. The meetings will be at the following locations:

Wednesday—October 16, 2002: Worcester Public Library—Main Branch, Saxe Room, Library Lane/Salem Square, Worcester, MA 01608. 9:30 a.m.-12:30 p.m.

Tuesday—October 22, 2002: Town of Middleborough, Town Hall, 10 Nickerson Avenue, Middleborough, MA. 1 p.m.-4 p.m.

Thursday—October 24, 2002: Town of Springfield/Municipal Office Bldg., 2nd Floor Conference Room, 26 Central Street, West Springfield, MA 01089. 1 p.m.-4 p.m.

Thursday—October 31, 2002: Portsmouth City Council Chambers, Portsmouth City Hall, One Junkins Avenue, Portsmouth, NH 03801. 9 a.m.-12:00 p.m.

Public Hearing Information: A public hearing will be conducted in accordance with 40 CFR 124.12 and will provide interested parties with the opportunity to provide written and/or oral comments for the official record. Only questions regarding procedures will be addressed at the hearing. The hearing may close prior to 12:00 if all parties wishing to present comments have done so.

Wednesday—October 30, 2002: United States Environmental Protection Agency, Regional Laboratory, 11 Technology Drive, North Chelmsford, MA 01863. Kennebec Conference Rooms A & B, 9 a.m.-12 p.m.

The hearing is being held in a government facility. Visitors will be asked to sign in and present photo identification. People planning on attending the public hearing may register prior to the hearing date. To register, contact Olga Vergara at 617/918-1519 or via e-mail at vergara.olga@epa.gov, include “Public Hearing Registration” in the subject line.

FOR FURTHER INFORMATION CONTACT: Additional information concerning the draft permit may be obtained between the hours of 9 a.m. and 5 p.m. Monday through Friday excluding holidays from: Thelma Murphy, Office of Ecosystem Protection, Environmental Protection Agency, 1 Congress Street, Suite 1100, Boston, MA 02114-2023; telephone: 617-918-1615; e-mail: murphy.thelma@epa.gov.

SUPPLEMENTARY INFORMATION: The draft general permit may be viewed over the Internet via the EPA-Region 1 Web site www.epa.gov/region01/topics/water/permits.html. To obtain a hard copy of the document, please contact Thelma Murphy. Contact information is provided above. The draft general permit includes a fact sheet which set forth principal facts and the significant factual, legal, and policy questions considered in the development of the draft permit. A reasonable fee may be charged for copying requests.

When the general permit is issued, it will be published in its entirety in the Federal Register. The general permit will be effective on the date specified in the Federal Register and it will expire five years from the date that the final permit is published in the Federal Register.

Dated: September 19, 2002.
Robert W. Varney,
Regional Administrator, , Region 1.

[FR Doc. 02-24644 Filed 9-26-02; 8:45 am]

BILLING CODE 6560-50-P